FEDERAL COMMUNICATIONS COMMISSION

47 CFR Part 73

[DA 00-1958, MM Docket No. 00-150, RM-9944]

Radio Broadcasting Services; Lewistown, MT

AGENCY: Federal Communications Commission.

ACTION: Proposed rule.

SUMMARY: This document requests comments on a petition filed by Lewistown Radio proposing the allotment of Channel 300C1 to Lewistown, Montana, as that community's second FM broadcast service. The channel can be allotted to Lewistown without a site restriction at coordinates 47-03-45 and 109-25-39. Canadian concurrence will be requested for this allotment.

DATES: Comments must be filed on or before October 16, 2000, and reply comments on or before October 31, 2000.

ADDRESSES: Federal Communications Commission, Washington, DC 20554. In addition to filing comments with the FCC, interested parties should serve the petitioner, as follows: James S. Bumpous, Partner, Lewistown Radio, 13915 Lakeview Drive, Austin, Texas 78732.

FOR FURTHER INFORMATION CONTACT: Kathleen Scheuerle, Mass Media Bureau, (202) 418-2180.

SUPPLEMENTARY INFORMATION: This is a summary of the Commission's Notice of Proposed Rule Making, MM Docket No. 00-150, adopted August 16, 2000, and released August 25, 2000. The full text of this Commission decision is available for inspection and copying during normal business hours in the Commission's Reference Center (Room 239), 1919 M Street, NW., Washington, DC. The complete text of this decision may also be purchased from the Commission's copy contractors, International Transcription Services, Inc., 1231 20th Street, NW., Washington, DC 20036, (202) 857-3800, facsimile (202) 857-3805.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-22747 Filed 9-5-00; 8:45 am]

BILLING CODE 6712-01-P